DEPARTMENT OF COMMERCE

National Oceanic and Atmospheric Administration

[RTID 0648-XE200]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its American Samoa Archipelago Fishery Ecosystem Plan (FEP) Advisory Panel (AP), Mariana Archipelago FEP Commonwealth of the Northern Mariana Islands (CNMI) AP, Fishing Industry Advisory Committee (FIAC), Hawaii Archipelago FEP AP, and the Mariana Archipelago FEP Guam AP to discuss and make recommendations on fishery management issues in the Western Pacific Region.

DATES: The meetings will be held between September 3 and September 7, 2024. For specific times and agendas, see SUPPLEMENTARY INFORMATION.

ADDRESSES: See SUPPLEMENTARY INFORMATION for specific locations of the meetings. Instructions for connecting to the web conference and providing oral public comments will be posted on the Council website at https://www.wpcouncil.org. For assistance with the web conference connection, contact the Council office at (808) 522-8220.

Council address: Western Pacific Fishery Management Council, 1164 Bishop Street, Suite 1400, Honolulu, HI 96813.

FOR FURTHER INFORMATION CONTACT: Contact Kitty M. Simonds, Executive Director, Western Pacific Fishery Management Council; phone: (808) 522-8220.

SUPPLEMENTARY INFORMATION: The American Samoa FEP AP will meet on Tuesday, September 3, 2024, from 5 p.m. to 7 p.m. (Samoa Standard Time); the Mariana Archipelago FEP CNMI AP will meet on Thursday, September 5, 2024, from 6 p.m. to 8 p.m. (Chamorro Standard Time [ChST]); the FIAC will meet on Thursday, September 5, 2024, from 2 p.m. to 5 p.m. (Hawaii Standard Time [HST]); the Hawaii Archipelago FEP AP will meet on Friday, September 6, 2024, from 9 a.m. to 1 p.m. (HST); and the Mariana Archipelago Guam AP will meet on Saturday, September 7, 2024, from 10 a.m. to 1 p.m. (ChST).

Public Comment periods will be provided in the agendas. The order in which agenda items are addressed may change. The meetings will run as late as necessary to complete scheduled business.

Meeting Locations

The Council will hold its American Samoa Archipelago FEP AP, Mariana Archipelago FEP CNMI AP, FIAC, Hawaii Archipelago FEP AP, and the Mariana Archipelago FEP Guam AP meetings in a hybrid format with in-person and remote participation (Webex) options available for the members and the public.

In-person attendance for the American Samoa Archipelago FEP AP members and public will be hosted at the Tedi of Samoa Suite 208B, P8C6+V2F, Fagotogo Village, AS, 96799.

In-person attendance for Mariana Archipelago FEP CNMI AP members and public will be hosted at BRI Building Suite 205, Kopa Di Oru St., Garapan, Saipan, 96950.

In person attendance for Hawaii Archipelago FEP AP and FIAC members and public will be hosted at the Council office, 1164 Bishop Street, Suite 1400, Honolulu, HI, 96813.

In-person attendance for Mariana Archipelago FEP Guam AP members and public will be hosted at Cliff Pointe, 304 W O'Brien Drive, Hagatña, GU, 96910.

Schedule and Agenda for the American Samoa Archipelago FEP AP Meeting

Tuesday, September 3, 2024, 5 p.m.-7 p.m. (Samoa Standard Time)

1. Welcome and Introductions

2. Review of the Last Advisory Panel (AP) Recommendation and Meeting

3. Feedback from the Fleet

A. Third Quarter Fisher Observation

B. Fisheries Issues

4. Council Fisheries Issues

A. Options for Hawaii and American Samoa Longline Fisheries Crew Training Requirement

B. Review of Cannery Offal Dumping

C. Report of Foreign Trade and Tariff Schemes

D. Giant Clam Endangered Species Act (ESA) Listing Proposed Rule

5. Report on 2023 Annual Fisher Observation Meeting

6. Fish Flow in American Samoa

7. Updates on the Super Alia Project

8. Funding on Coastal Climate Resiliency Projects

9. Other Business

10. Public Comment

11. Discussion and Recommendations

Schedule and Agenda for the Mariana Archipelago FEP CNMI AP Meeting

Thursday, September 5, 2024, 6 p.m.-8 p.m. (Chamorro Standard Time)

1. Welcome and Introductions

2. Review of the Last AP Recommendation and Meeting

3. Feedback from the Fleet

A. Third Quarter Fisher Observation

B. Fisheries Issues

4. Council Fisheries Issues

A. Commonwealth of the Northern Mariana Islands (CNMI) Bottomfish Review

B. Giant Clam ESA Listing Proposed Rule

5. Report on 2023 Annual Fisher Observation Meeting

6. Contributions of Small Boat Fisheries in CNMI

7. Funding on Coastal Climate Resiliency Projects

8. Other Business

9. Public Comment

10. Discussion and Recommendations

Schedule and Agenda for the FIAC Meeting

Thursday, September 5, 2024, 2 p.m.-5 p.m. (Hawaii Standard Time)

1. Welcome and Introductions

2. Status Report on Previous FIAC Recommendations

3. Roundtable update on Fishing/Market Issues/Impacts

4. Alternatives for Specifying Main Hawaiian Islands (MHI) Deep 7 Annual Catch Limits (ACL) for 2024-2027

5. Options for Hawaii and American Samoa Longline Fisheries Crew Training

6. Regulatory Considerations for Electronic Monitoring in U.S. Pacific Longline Fisheries

7. 2023 Cost-Earnings Survey of the Hawaii Longline Fisheries

8. Update on Super Alia and FIAC Discussion

9. Follow-Up on Nearshore and Offshore Hawaii Shortline Fisheries

10. Updates on Offshore Energy in the Western Pacific

11. Updates on U.S. and Pacific Island Trade Issues

12. Western and Central Pacific Fisheries Commission and Inter-American Tropical Tuna Commission Updates

13. Other Issues

14. Public Comment

15. Discussion and Recommendations

Schedule and Agenda for the Hawaii Archipelago FEP AP Meeting

Friday, September 6, 2024, 9 a.m.-1 p.m. (Hawaii Standard Time)

1. Welcome and Introductions

2. Review of the Last AP Recommendation and Meeting

3. Feedback from the Fleet

A. Third Quarter Fisher Observation

B. Fisheries Issues

4. Council Fisheries Issues

A. Alternatives for Specifying MHI Deep 7 ACL for 2024-2027

B. Options for Hawaii and American Samoa Longline Fisheries Crew Training Requirement

C. Report on Hawaii Shortline Fishery

5. Updates on Offshore Energy in Hawaii

6. Funding on Coastal Climate Resiliency Projects

7. Report on 2023 Annual Fisher Observation Meeting

8. Other Business

9. Public Comment

10. Discussion and Recommendations

Schedule and Agenda for the Mariana Archipelago FEP Guam AP Meeting

Saturday, September 7, 2024, 10 a.m.-1 p.m. (Chamorro Standard Time)

1. Welcome and Introductions

2. Review of the Last AP Recommendation and Meeting

3. Feedback from the Fleet

A. Third Quarter Fisher Observation

B. Fisheries Issues

4. Council Fisheries Issues

A. Modifying the Guam Rebuilding Plan

B. Review of Military Buildup

C. Giant Clam ESA Listing Proposed Rule

5. Updates on Offshore Energy in Guam

6. Contributions of Small Boat Fisheries in Guam

7. Report on 2023 Annual Fisher Observation Meeting

8. Funding on Coastal Climate Resiliency Projects

9. Other Business

10. Public Comment

11. Discussion and Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 15, 2024.
Alyssa Weigers,
Acting Deputy Director, Office of Sustainable Fisheries, National Marine Fisheries Service.

[FR Doc. 2024-18707 Filed 8-20-24; 8:45 am]

BILLING CODE 3510-22-P